DEPARTMENT OF ENERGY

10 CFR Part 431

[Docket No. EERE-2013-BT-STD-0022]

RIN 1904-AD00

Energy Efficiency Program for Commercial and Industrial Equipment: Public Meeting and Availability of the Framework Document for Refrigerated Beverage Vending Machines

AGENCY: Office of Energy Efficiency and Renewable Energy, Department of Energy.

ACTION: Extension of public comment period.

SUMMARY: The comment period for the notice of public meeting and availability of the Framework Document pertaining to the development of energy conservation standards for refrigerated beverage vending machines published on June 4, 2013, is extended to August 16, 2013.

DATES: The comment period for the notice of public meeting and availability of the Framework Document relating to refrigerated beverage vending machines published June 4, 2013 (78 FR 33262) is extended to August 16, 2013.

ADDRESSES: Any comments submitted must identify the framework document for refrigerated beverage vending machines and provide docket number EERE-2013-BT-STD-0022 and/or RIN number 1904-AD00. Comments may be submitted using any of the following methods:

• Federal eRulemaking Portal: http://www.regulations.gov. Follow the instructions for submitting comments.

• Email: BVM2013STD0022@EE.Doe.Gov. Include EERE-2013-BT-STD-0022 in the subject line of the message.

• Mail: Ms. Brenda Edwards, U.S. Department of Energy, Building Technologies Program, Mailstop EE-2J, Framework Document for Refrigerated Beverage Vending Machines, Docket No. EERE-2013-BT-STD-0022, 1000 Independence Avenue SW., Washington, DC 20585-0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Docket: For access to the docket to read background documents, or comments received, go to the Federal eRulemaking Portal at http://www.regulations.gov.

FOR FURTHER INFORMATION CONTACT: Mr. Charles Llenza, U.S. Department of Energy, Office of Energy Efficiency and Renewable Energy, Building Technologies Office, EE-2J, 1000 Independence Avenue SW., Washington, DC 20585-0121. Telephone: (202) 586-2192. Email: refrigerated_beverage_vending_machinescommat;ee.doe.gov.

In the office of the General Counsel, contact Mr. Ari Altman, U.S. Department of Energy, Office of the General Counsel, GC-71, 1000 Independence Avenue SW., Washington, DC 20585-0121. Telephone: (202) 287-6307. Email: Ari.Altman@hq.doe.gov.

SUPPLEMENTARY INFORMATION: The Energy Policy and Conservation Act of 1975 (EPCA), as amended, directed the U.S. Department of Energy (DOE) to prescribe energy conservation standards for beverage vending machines (42 U.S.C. 6295(v)). DOE published a final rule establishing standards for beverage vending machines on August 31, 2009. (74 FR at 44914). Within 6 years after issuance of any final rule establishing or amending a standard, EPCA also requires DOE to publish a notice determining whether to amend such standards. If DOE determines that amendment is warranted, DOE must also issue a notice of proposed rulemaking (NOPR) including new proposed energy conservation standards by that same date. (42 U.S.C. 6295(m)(1))

On June 4, 2013, DOE published a notice of public meeting and availability of Framework Document to consider amending the energy conservation standards for refrigerated beverage vending machines (78 FR 33262). The notice requested public comment from interested parties and provided for the submission of comments by July 19, 2013. Thereafter, Royal Vendors, Inc. requested an extension of the public comment period by 90 days to October 10, 2013, in order to allow small manufacturers to evaluate the wide range of topics on which comments have been requested by DOE.

DOE believes that extending the comment period by 30 days to allow additional time for interested parties to submit comments is appropriate. Therefore, DOE is extending the comment period until August 16, 2013 to provide interested parties additional time to prepare and submit comments. Accordingly, DOE will consider any comments received by August 16, 2013 to be timely submitted.

Issued in Washington, DC, on July 3, 2013.
Kathleen B. Hogan,
Deputy Assistant Secretary for Energy Efficiency, Energy Efficiency and Renewable Energy.

[FR Doc. 2013-16567 Filed 7-9-13; 8:45 am]

BILLING CODE 6450-01-P